DEPARTMENT OF HOUSING AND URBAN DEVELOPMENT

[Docket No. FR-7080-C-64]

30-Day Notice of Proposed Information Collection: Application for the Community Development Block Grant (ICDBG) Program for Indian Tribes and Alaska Native Villages; Correction; OMB Control No.: 2577-0191

AGENCY: Office of Policy Development and Research, Chief Data Officer, HUD.

ACTION: Notice, correction.

SUMMARY: HUD is publishing this notice to correct the heading on the notice that was published in the Federal Register on December 26, 2024. The heading should read 30-day Notice of Proposed Information Collection.

FOR FURTHER INFORMATION CONTACT: Anna Guido, Clearance Officer, REE, Department of Housing and Urban Development, 451 7th Street SW, Washington, DC 20410; email Anna.P.Guido@hud.gov, telephone 202-402-5534. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: HUD published an information collection notice in the Federal Register at 89 FR 105064 entitled “Indian Community Development Block Grant Information Collection”. This notice corrects the heading to read “30-Day Notice of Proposed Information Collection.

Nacheshia Foxx,
Federal Register Liaison, Office of General Counsel.

[FR Doc. 2025-00217 Filed 1-7-25; 8:45 am]

BILLING CODE 4210-67-P